DEPARTMENT OF TRANSPORTATION

Federal Railroad Administration

Guidance for the High-Speed Rail/Intercity Passenger Rail Grant Program

AGENCY: Federal Railroad Administration (FRA), U.S. Department of Transportation (DOT).

ACTION: Announcement of availability of guidance.

SUMMARY: On June 17, 2009, FRA intends to issue guidance for the High-Speed Rail (HSR)/Intercity Passenger Rail (IPR) Grant Program. FRA will post this guidance on its Web site at: http://www.fra.dot.gov/us/content/2243. Subsequently, FRA will publish this guidance in the Federal Register.

FOR FURTHER INFORMATION CONTACT: For further information regarding the guidance document and grant program, please contact the FRA HSR/IPR Program Manager via e-mail: ARRA.Rail@dot.gov, or by mail: Office of Passenger and Freight Programs, Federal Railroad Administration, 1200 New Jersey Avenue, MS-20, SE., Washington, DC, 20590.

SUPPLEMENTARY INFORMATION: The guidance document and additional information about the HSR/IPR Grant Program are available on FRA's public Web site at: http://www.fra.dot.gov/us/content/2243. This Program builds upon the President's “Vision for High-Speed Rail in America,” which was issued on April 16, 2009, and which describes a collaborative effort among the Federal Government, States, railroads and other key stakeholders to help transform America's transportation system by investing in an efficient, high-speed passenger rail network of 100 to 600 mile intercity corridors. The guidance document details HSR/IPR Grant Program funding opportunities as well as specific application requirements and procedures. The funds are being made available under the American Recovery and Reinvestment Act of 2009 (ARRA) and the Department of Transportation Appropriations Acts of fiscal years 2008 and 2009. ARRA requires the Secretary of Transportation to issue interim guidance to applicants within 120 days of enactment. In addition to being available on the FRA's Web site, the guidance will be published in the Federal Register at a later date.

Issued in Washington, DC, on June 12, 2009.
Paul Nissenbaum,
Director, Office of Passenger and Freight Programs.

[FR Doc. E9-14251 Filed 6-16-09; 8:45 am]

BILLING CODE 4910-06-P